DEPARTMENT OF ENERGY

Federal Energy Regulatory Commission

[Docket No. RP02-504-001]

Iroquois Gas Transmission System, L.P.; Notice of Compliance Filing

October 16, 2002.

Take notice that on October 7, 2002, Iroquois Gas Transmission System, L.P. (Iroquois) tendered for filing as part of its FERC Gas Tariff, First Revised Volume No. 1, the following tariff sheets in compliance with the Commission's September 20, 2002 letter order:

Substitute Original Sheet No. 10B

Original Sheet No. 10B.01

Substitute Second Revised Sheet No. 66A

Substitute Fourth Revised Sheet No. 67

Iroquois states that these tariff sheets are being filed to replace sheets accepted to become effective on September 20, 2002, therefore the proposed tariff sheets also reflect an effective date of September 20, 2002.

In its initial August 20, 2002 filing in Docket No. RP02-504, Iroquois proposed modifications to its tariff to permit it to reserve existing firm transportation capacity for future projects and to clarify and modify the provisions of its tariff concerning its customers' ability to make changes to their receipt and delivery points. The Commission's Order accepted Iroquois' tariff sheets, but required Iroquois to modify certain aspects of its proposal to conform to recent Commission policy regarding capacity reservation and delivery point changes. The substitute tariff sheets submitted with Iroquois' filing make those required changes.

Iroquois states that copies of its filing were served on all jurisdictional customers and interested state regulatory agencies and all parties to the proceeding.

Any person desiring to protest said filing should file a protest with the Federal Energy Regulatory Commission, 888 First Street, NE., Washington, DC 20426, in accordance with section 385.211 of the Commission's rules and regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202)502-8222 or for TTY, (202) 502-8659. The Commission strongly encourages electronic filings. See, 18 CFR 385.2001(a)(1)(iii) and the instructions on the Commission's Web site under the “e-Filing” link.

Linwood A. Watson, Jr.,
Deputy Secretary.

[FR Doc. 02-26953 Filed 10-22-02; 8:45 am]

BILLING CODE 6717-01-P